DEPARTMENT OF TRANSPORTATION

Federal Aviation Administration

[Summary Notice No. PE-2001-72]

Petitions for Exemption; Summary of Dispositions of Petitions Issued

AGENCY: Federal Aviation Administration (FAA), DOT.

ACTION: Notice of dispositions of prior petitions.

SUMMARY: Pursuant to FAA's rulemaking provisions governing the application, processing, and disposition of petitions for exemption part 11 of title 14, Code of Federal Regulations (14 CFR), this notice contains a summary of dispositions of certain petitions previously received. The purpose of this aspect of FAA's regulatory activities. Neither publication of this notice nor the inclusion or omission of information in the summary is intended to affect the legal status of any petition or its final disposition.

FOR FURTHER INFORMATION CONTACT: Forest Rawls (202) 267-8033, Sandy Buchanan-Sumter (202) 267-7271, or Vanessa Wilkins (202) 267-8029, Office of Rulemaking (ARM-1), Federal Aviation Administration, 800 Independence Avenue, SW., Washington, DC 20591.

This notice is published pursuant to 14 CFR 11.85 and 11.91.

Issued in Washington, DC, on September 18, 2001.
Richard McCurdy,
Acting, Assistant Chief Counsel for Regulations.

Dispositions of Petitions

Docket No.: FAA-2001-9708.

Petitioner: Frontier Flying Service, Inc.

Section of 14 CFR Affected: 14 CFR 135.152(a).

Description of Relief Sought/Disposition: To permit FFS to operate 3 Beech 1900C airplanes (Serial Nos. UC-83, UC-95, and UC-136) without those airplanes meeting the digital flight data recorder requirements of that section. Grant, 08/17/2001, Exemption No. 7606.

Docket No.: FAA-2001-9426.

Petitioner: Trans States Airlines, Inc.

Section of 14 CFR Affected: 14 CFR 121.344(d).

Description of Relief Sought/Disposition: To permit Trans States to operate five Avions de Transport Regional ATR 42 and three ATR 72 airplanes without those airplanes having the capability to record data in accordance with the following paragraphs of § 121.344(a), as applicable: (9) Thrust/power of each engine—primary flight crew reference;; (10) Autopilot engagement status; (12) Pitch control input; (13) Lateral control input; (14) Rudder pedal input; (15) Primary pitch control surface position; (16) Primary lateral control surface position; (30) Master warning; (31) Air/ground sensor (primary airplane system reference nose or main gear); (32) Angle of attack (when an information source is installed); (34) Ground speed (when an information source is installed). Grant, 08/17/2001, Exemption No. 7597.

Docket No.: FAA-2001-9439.

Petitioner: Carson Helicopter Services, Inc.

Section of 14 CFR Affected: 14 CFR 135.152(a).

Description of Relief Sought/Disposition: To permit Carson to operate its 5 Sikorsky S61N helicopters (Registration Nos. N612RM, N7011M, N4503E, N116AZ, and N4263A; and Serial Nos. 61-744, 61-216, 61-220, 61-242, and 61-551, respectively) without those helicopters being equipped with an approved digital flight data recorder. Grant, 08/23/2001, Exemption No. 7611.

Docket No.: FAA-2001-9458.

Petitioner: Boeing Commercial Airplane Group.

Section of 14 CFR Affected: 14 CFR 25.785(h)(2), 25.807(f)(4), 25.813(e), 25.853(d).

Description of Relief Sought/Description: (1) To permit Boeing to install flight attendant seats that do not provide direct view of the cabin; (2) to allow for exit distances greater than sixty feet; (3) to permit Boeing to install interior doors between passenger compartments; and (4) to permit Boeing to install interior materials that do not comply with heat release and smoke emission requirements, on the Boeing Model 737-800 airplane. Grant, 08/17/2001, Exemption No. 7609.

Docket No.: FAA-2001-9285.

Petitioner: Mesaba Aviation, Inc.

Section of 14 CFR Affected: 14 CFR 121.344(d).

Description of Relief Sought/Disposition: To permit Mesaba to operate 18 British Aerospace BAe RJ85 Avroliner airplanes without installing the required approved digital flight data recorder capable of recording all required parameters. Grant, 08/23/2001, Exemption No. 7600A.

Docket No.: FAA-2001-9462.

Petitioner: Trans States Airlines, Inc.

Section of 14 CFR Affected: 14 CFR 121.344(d).

Description of Relief Sought/Disposition: To permit Trans States to operate five Avions de Transport Regional ATR 42 and three ATR 72 airplanes without those airplanes having the capability to record data in accordance with certain paragraphs of § 121.344(a). Grant, 08/23/2001, Exemption No. 7597A.

Docket No.: FAA-2001-8883.

Petitioner: Atlantic Southeast Airlines, Inc.

Section of 14 CFR Affected: 14 CFR 121.344(d)(1).

Description of Relief Sought/Disposition: To permit ASA to operate 19 Avions de Transport Regional ATR airplanes without those airplanes having the capability to record data in accordance with certain paragraphs of § 121.344(a). Grant, 08/23/2001, Exemption No. 7601A.

Docket No.: FAA-2001-9740.

Petitioner: American Eagle Airlines, Inc.

Section of 14 CFR Affected: 14 CFR 121.344(c)(1) and (d)(1).

Description of Relief Sought/Disposition: To permit AME to operate certain Avions de Transport Regional ATR 42 and ATR 72 airplanes without those airplanes having the capability to record data in accordance with certain paragraph of § 121.344(a). Grant, 08/23/2001, Exemption No. 7599A.

Docket No.: FAA-2001-9875.

Petitioner: Continental Express Airlines.

Section of 14 CFR Affected: 14 CFR 121.344(c) and (d).

Description of Relief Sought/Disposition: To permit Continental Express to operate certain Avions de Transport Regional ATR 42 airplanes without those airplanes having the capability to record data in accordance with certain paragraphs of § 121.3449a). Grant, 08/23/2001, Exemption No. 7602A.

Docket No.: FAA-2001-8943.

Petitioner: Avianca S.A.

Section of 14 CFR Affected: 14 CFR 121.344(d).

Description of Relief Sought/Disposition: To permit Avianca to operate a Boeing 757 airplane (Registration No. N321LF, serial No. 26269) without that airplane being able to record data in accordance with § 121.344(a)(14) and (17). Grant, 08/23/2001, Exemption No. 7607A.

[FR Doc. 01-23774 Filed 9-21-01; 8:45 am]

BILLING CODE 4910-13-M